DEPARTMENT OF LABOR

Employment and Training Administration

[NAFTA-05329]

Emerson Process Management, Formerly Fisher Controls Regulator Division, McKinney, Texas; Amended Certification Regarding Eligibility To Apply for Worker Adjustment Assistance

In accordance with section 250(A), Subchapter D, Chapter 2, Title II, of the Trade Act of 1974 (19 U.S.C. 2273) the Department of Labor issued a Certification for NAFTA Transitional Adjustment Assistance on November 19, 2001, applicable to workers of Emerson Process Management, Regulator Division, McKinney, Texas. The notice was published in the Federal Register on December 5, 2001 (66 FR 63262).

At the request of the State agency, the Department reviewed the certification for workers of the subject firm. The workers are engaged in the production of regulators for gas pipelines.

New findings show that the Department incorrectly identified the subject firm name. The Department is amending this certification determination to correctly identify the subject firm title name to read Emerson Process Management, formerly Fisher Controls, Regulator Division.

The intent of the Department's certification is to include all workers of Emerson Process Management, formerly Fisher Controls, Regulator Division, McKinney, Texas who were adversely affected by layoffs, declines in sales and production and a shift in production of regulators for gas pipelines to Mexico.

The amended notice applicable to NAFTA-05329 is hereby issued as follows:

All workers of Emerson Process Management, formerly Fisher Controls, Regulator Division, McKinney, Texas, who became totally or partially separated from employment on or after September 11, 2000, through November 19, 2003, are eligible to apply for NAFTA-TAA under Section 250 of the Trade Act of 1974.

Signed at Washington, DC this 11th day of January, 2002.
Linda G. Poole,
Certifying Officer, Division of Trade Adjustment Assistance.

[FR Doc. 02-1779 Filed 1-23-02; 8:45 am]

BILLING CODE 4510-30-M